DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Pacific Islands Region Permit Family of Forms.

OMB Control Number: 0648-0490.

Form Number(s): None.

Type of Request: Regular (revision and extension of a currently approved information collection).

Number of Respondents: 243.

Average Hours Per Response: Hawaii longline limited entry permit transfer, 1 hour; American Samoa longline limited entry permit renewal and additional permit application, 45 minutes; American Samoa longline permit transfer, 1 hour, 15 minutes; Main Hawaiian Islands longline prohibited area exemptions and permit appeals, 2 hours; all other permits, 30 minutes.

Burden Hours: 137.

Needs and Uses: This request is for revision and extension of a current information collection. Changes have been made to the forms and instructions. The forms have been reformatted, the requirement to collect the TIN has been added and declaratory language has been added for signatures.

Regulations at 50 CFR 665, Subpart F, require that a vessel must be registered to a valid federal fishing permit if it is used to fish with longline gear for Pacific pelagic management unit species (PMUS), land or transship longline caught PMUS, or receive longline caught PMUS from a longline vessel, within the Exclusive Economic Zone (EEZ) of United States (U.S.) islands in the central and western Pacific, or to fish with troll and handline gear for PMUS within the EEZ around each of the Pacific Remote Island Areas (PRIA).

Regulations at 50 CFR parts 665, Subparts D and E, require that the owner of a vessel used to fish for, land, or transship bottomfish management unit species (BMUS) using a large vessel (50 ft or longer) around Guam, or using a vessel within the EEZ around each of the PRIA, must register it to a valid federal fishing permit they hold.

Regulations at 50 CFR 665, Subparts B, C, D and E, require that a vessel used to fish for precious corals within the EEZ of U.S. islands in the central and western Pacific, must be registered to a valid federal fishing permit for a specific precious coral permit area.

This collection of information is needed for permit issuance, to identify actual or potential participants in the fishery, determine qualifications for permits, and to help measure the impacts of management controls on the participants in the fishery. The permit program is also an effective tool in the enforcement of fishery regulations and facilitates communication between the National Marine Fisheries Service (NMFS) and fishermen.

Affected Public: Business or other for-profit organizations.

Frequency: Annually, monthly, on occasion and variable.

Respondent's Obligation: Mandatory.

This information collection request may be viewed at reginfo.gov. Follow the instructions to view Department of Commerce collections currently under review by OMB.

Written comments and recommendations for the proposed information collection should be sent within 30 days of publication of this notice to OIRA_Submission@omb.eop.gov or fax to (202) 395-5806.

Dated: December 8, 2014.
Glenna Mickelson,
Management Analyst, Office of the Chief Information Officer.

[FR Doc. 2014-29059 Filed 12-10-14; 8:45 am]

BILLING CODE 3510-22-P